DEPARTMENT OF THE INTERIOR

Bureau of Land Management

[ID-330-1430-EQ-2920; IDI-34904]

Notice of Realty Action; 10-Year Lease of Public Land, Custer County, ID

AGENCY: Bureau of Land Management, Interior.

ACTION: Notice of realty action.

SUMMARY: The Bureau of Land Management (BLM) has examined and determined that one parcel of public land, approximately 47 acres, located in Custer County, Idaho is suitable for a renewable, 10-year agricultural use lease to Karen and Sydney Dowton (Lessee), pursuant to Section 302(b) of the Federal Land Policy Management Act of 1976, as amended. Annual rental will be at no less than the appraised fair market value.

DATES: Interested parties may submit comments to the BLM Challis Field Office Manager, at the below stated address. Comments must be received by not later than May 21, 2007. Only written comments will be accepted.

ADDRESSES: Address all written comments concerning this Notice to David Rosenkrance, BLM Challis Field Manager, 801 Blue Mountain Rd., Challis, Idaho 83226-9304.

FOR FURTHER INFORMATION CONTACT: Tim Vanek, Realty Specialist, at the above address or call: (208) 879-6218.

SUPPLEMENTARY INFORMATION: On January 12, 2004, Interior Board of Land Appeals (IBLA) oversaw a settlement (IBLA 99-344) between appellant Sydney Dowton and respondent, Bureau of Land Management. Item 3 of the settlement agreement stated: “Mr. Dowton reserves the right to, and the dismissal of this matter is without prejudice to his right to, file a color-of-title application with the BLM concerning the same Parcel 1 that is at issue here. That color-of-title shall be submitted under the authority of 43 CFR part 2540 and other applicable statutes and regulations. Parcel 1 is generally referred to in this manner as that land located north of the current channel of the Salmon River in lot 2, Section 26, Township 16 North, Range 20 East, of the Boise Meridian.” Mr. Dowton did file a color-of-title application with the BLM Idaho State Office on March 1, 2004, for Parcel 1. The application was identified as: serial number IDI-34592 and was rejected September 2004, for failing to meet the criteria of suitable color-of-title claim as defined by 43 CFR 2540.0-5(b). Item 7 of the aforementioned settlement stated: “Should the final agency action on the color-of-title application deny the application, BLM will then lease Parcel 1 to Mr. Dowton for agricultural use pursuant to the provisions of 43 CFR part 2920. The lease will be a land-use authorization offered on a negotiated, non-competitive basis pursuant to 43 CFR Sec. 2920.5-4(b) (10/1/03 Edition). That lease will be for a term of ten years and will be renewable for an additional term.”

The legal description of Parcel 1 is:

Boise Meridian, T. 16 N., R. 20 E, contains 47 acres in Custer County, more or less. sec. 26, lot 2

After review, the BLM has determined that the proposed use of the above described parcel is in conformance with the Challis Resource Management Plan (RMP) (1999). Compliance can be found under Decision Land Tenure and Access under Goal 4. (Eliminate unauthorized use of public lands.) Therefore, pursuant to section 302(b) of the Federal Land Policy and Management Act of 1976 (43 U.S.C. 1732(b)) and the implementing regulations at 43 CFR part 2920, the BLM will accept for processing an application to be filed by Sydney Dowton, or his duly qualified designee, for a non-competitive lease of the above described lands, to be used for harvest of meadow grass irrigated by a 549′, 6⅝″ diameter center pivot.

A non-competitive lease may be employed in this case because doing so meets the terms of the January 12, 2004, IBLA settlement between Sydney Dowton and the BLM. Furthermore, as provided in 43 CFR 2920.5-4(b), land use authorizations may be offered on a negotiated, non-competitive basis, when, in the judgment of the authorized officer, equities, such as prior use of the lands, exist; if no competitive interest exists; or, where competitive bidding would represent unfair competitive and economic disadvantage to the originator of the unique land use concept that is compatible with the public interest. The Dowtons built the aforementioned center irrigation pivot on the subject parcel between 1994 and 1995 at a cost of approximately $21,000.00. This fact, as well as the history of past use by the Dowtons is further evidence to support the decision to offer a non-competitive lease. The non-competitive bid shall not be for less than market value. That is to say rental value must be based on the market value of the land acceptable to the BLM after taking into account a current independent appraisal of, among other considerations, the highest and best use of the lands. The BLM will not charge processing fees as per: Section 8 (E.) Additional Terms and Conditions of the settlement, which states: “Each Party is to bear its own costs and attorney fees in this matter leading up to this agreement and for the preparation and implementation of the Agreement. Should either party be required to seek legal actions to enforce or interpret the terms and conditions of this Agreement, attorney fees and costs may be awarded as allowed under the typical law.” Rent, payable annually or otherwise in advance, will be determined by the BLM, if and when a lease application is granted and periodically thereafter.

The lease application must include a reference to this notice and comply in all respects with the regulations pertaining to land use authorization applications at 43 CFR 2920.5-2 and 2920.5-5(b).

If authorized, the lease would be subject to valid existing rights.

On or before May 21, 2007, interested parties may submit comments to the BLM at the address stated above with respect to:

(1) The decision of the BLM regarding the availability of the lands described herein and

(2) The decision of the BLM to accept for processing an application from Sydney Dowton for a non-competitive lease.

In addition to the right reserved in 43 CFR 2920.7, the United States (Lessor) shall reserve all leasable, locatable, and salable mineral resources and deposits in the subject parcel together with the right to prospect for, mine, and remove the same under applicable laws and regulations. The lease, when issued, will contain a covenant requiring the Lessee assign in the name of the Lessor that amount of water applied to the subject parcel during the use of the subject parcel. In the event the application of water to the public land ceases, this assignment shall terminate and full water right shall revert back to the sole ownership of Karen and Sydney Dowton.

Comments must be received by the BLM Challis Field Manager, Idaho Falls District Office, at the address stated above, on or before the date stated above. Any adverse comments will be reviewed by the Idaho Falls District Manager, who may sustain, vacate, or modify this realty action. In the absence of any objections, or adverse comments, this proposed realty action will become the final determination of the Department of the Interior.

(Authority: 43 CFR 2920.4)

Dated: February 5, 2007.
Joe Kraayenbrink,
District Manager, Idaho Falls District.

[FR Doc. E7-6410 Filed 4-5-07; 8:45 am]

BILLING CODE 4310-GG-P